DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene via web conference on March 7, 2023, from 10 a.m. EST to 4:30 p.m. EST.

The board will meet in open-session March 7, 2023, from 10 a.m. EST to 2 p.m. EST to discuss the Mandatory Guidelines for Federal Workplace Drug Testing Programs, updates to the Electronic Chain of Custody Form (ECCF), as well as updates from the Department of Transportation, the Nuclear Regulatory Commission, the Department of Defense, and the Food and Drug Administration as well as a presentation by Dr. Svante Vikingsson on Fentanyl and Opioids Pulse Study results.

The board will meet in closed session on March 7, 2023, from 2:15 p.m. EST to 4:30 p.m. EST to discuss issues surrounding cannabinoids pertaining to the effect of the proliferation of various cannabinoid isomers, including Delta-8-THC, on federal workplace drug testing programs, including federal and state responses to cannabinoid drug testing issues of concern, and potential SAMSHA actions. In closed session the board will also review information and proposed actions concerning the Department of Health and Humans Services (HHS) Mandatory Guideline internal review and approval process that has not been made public by HHS. Therefore, the March 7, 2023, meeting from 2:15 p.m. to 4:30 p.m. is closed to the public, as determined by the Assistant Secretary for Mental Health and Substance Use, SAMHSA, in accordance with 5 U.S.C. 552b(c)(9)(B) and 5 U.S.C. App. 2, section 10(d).

Meeting registration information can be completed at https://snacregister.samhsa.gov/. Web conference and call information will be sent after completing registration. Meeting information and a roster of DTAB members may be obtained by accessing the SAMHSA Advisory Committees website, https://www.samhsa.gov/about-us/advisory-councils/meetings, or by contacting the Designated Federal Officer, Lisa Davis.

Committee Name: Substance Abuse and Mental Health Services Administration, Center for Substance Abuse Prevention, Drug Testing Advisory Board.

Dates/Time/Type: March 7, 2023, from 10 a.m. EST to 2 p.m. EST: OPEN; March 7, 2023, from 2:15 p.m. EST to 4:30 p.m. EST: CLOSED.

Place: Substance Abuse and Mental Health Services Administration, 5600 Fishers Lane, Rockville, MD 20857.

Contact: Lisa S. Davis, M.S., Social Science Analyst, Center for Substance Abuse Prevention, 5600 Fishers Lane, Rockville, Maryland 20857, Telephone: (240) 276-1440, Email: Lisa.Davis@samhsa.hhs.gov.

Anastasia Marie Donovan,
Public Health Advisor, Division of Workplace Programs.

[FR Doc. 2023-00911 Filed 1-18-23; 8:45 am]

BILLING CODE 4162-20-P